DEPARTMENT OF HOMELAND SECURITY

Federal Emergency Management Agency

44 CFR Part 67

[Docket ID FEMA-2013-0002; Internal Agency Docket No. FEMA-B-1196]

Proposed Flood Elevation Determinations for Lake County, Illinois, and Incorporated Areas

AGENCY: Federal Emergency Management Agency, DHS.

ACTION: Proposed rule; withdrawal.

SUMMARY: The Federal Emergency Management Agency (FEMA) is withdrawing its proposed rule concerning proposed flood elevation determinations for Lake County, Illinois, and Incorporated Areas

DATES: This withdrawal is effective on May 21, 2013.

ADDRESSES: You may submit comments, identified by Docket No. FEMA-B-1196, to Luis Rodriguez, Chief, Engineering Management Branch, Federal Insurance and Mitigation Administration, Federal Emergency Management Agency, 500 C Street SW., Washington, DC 20472, (202) 646-4064, or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: On July 5, 2011, FEMA published a proposed rulemaking at 76 FR 39063, proposing flood elevation determinations along one or more flooding sources in Lake County, Illinois. Because FEMA has issued a Revised Preliminary Flood Insurance Rate Map, and a Flood Insurance Study report, featuring no new flood hazard analysis and unchanged base flood elevations, the proposed rulemaking is being withdrawn.

Authority: 42 U.S.C. 4104; 44 CFR 67.4.

Roy E. Wright,
Deputy Associate Administrator for Mitigation, Department of Homeland Security, Federal Emergency Management Agency.

[FR Doc. 2013-12011 Filed 5-20-13; 8:45 am]

BILLING CODE 9110-12-P